DEPARTMENT OF COMMERCE

National Oceanic and Atmospheric Administration

[RTID 0648-XE291]

Marine Mammals; File No. 27984

AGENCY: National Marine Fisheries Service (NMFS), National Oceanic and Atmospheric Administration (NOAA), Commerce.

ACTION: Notice; receipt of application.

SUMMARY: Notice is hereby given that Jooke Robbins, Ph.D., Center for Coastal Studies, 5 Holway Avenue, Provincetown, MA 02657, has applied in due form for a permit to conduct research on marine mammals.

DATES: Written comments must be received on or before November 29, 2024.

ADDRESSES: The application and related documents are available for review by selecting “Records Open for Public Comment” from the “Features” box on the Applications and Permits for Protected Species home page, https://apps.nmfs.noaa.gov, and then selecting File No. 27984 from the list of available applications. These documents are available upon written request via email to NMFS.Pr1Comments@noaa.gov.

Written comments on this application should be submitted via email to NMFS.Pr1Comments@noaa.gov. Please include File No. 27984 in the subject line of the email comment.

Those individuals requesting a public hearing should submit a written request via email to NMFS.Pr1Comments@noaa.gov. The request should set forth the specific reasons why a hearing on this application would be appropriate.

FOR FURTHER INFORMATION CONTACT: Courtney Smith, Ph.D., or Shasta McClenahan, Ph.D., (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (16 U.S.C. 1531 et seq.), and the regulations governing the taking, importing, and exporting of endangered and threatened species (50 CFR parts 222-226).

The applicant proposes to target humpback (Megaptera novaeangliae; Gulf of Maine stock/West Indies Distinct Population Segment) and endangered fin (Balaenoptera physalus; Western North Atlantic stock) whales for research purposes in the Gulf of Maine and adjacent waters, and the waters off Georgia and Florida. An additional 12 species of cetaceans and 2 species of pinnipeds may be unintentionally harassed during research, including endangered North Atlantic right (Eubalaena glacialis) and sei (B. borealis) whales. Marine mammals may be approached during vessel surveys for photo-identification, photogrammetry, underwater photography/videography, counts, unmanned aircraft system operations, behavioral observations, and biological sampling (skin and blubber biopsy, feces, and sloughed skin). Additionally, samples would be imported and exported for analysis and the creation of cell lines. See the application for complete numbers of animals requested by species, age-class, and procedure. The objectives of the research are to continue the long-term study of the biology and ecology of humpback and fin whales by examining population dynamics, movement and habitat use, entanglement and other human impacts, molecular genetics, aging, toxicology, foraging ecology, microbiology, reproduction, and health. The permit would be valid for 5 years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: October 24, 2024.
Amy Sloan,
Acting Chief, Permits and Conservation Division, Office of Protected Resources, National Marine Fisheries Service.

[FR Doc. 2024-25126 Filed 10-25-24; 4:15 pm]

BILLING CODE 3510-22-P